DEPARTMENT OF AGRICULTURE

Forest Service

Bitterroot National Forest, West Fork Ranger District; Montana; Lower West Fork Project

AGENCY: Forest Service, USDA.

ACTION: Notice of intent to prepare an environmental impact statement.

SUMMARY: The USDA, Forest Service, Bitterroot National Forest, will prepare an environmental impact statement (EIS) to document the analysis and disclose the environmental impacts of the proposed Lower West Fork project. The project area is located in Ravalli County, about 15 miles southwest of Darby, Montana. The project area encompasses about 38,400 acres between the Pierce and Wheeler Creek drainages on the west side of the West Fork Bitterroot River, and the Piquett, Violet, Pine, Applebury, Steep Creek drainages on the east side of the river. The proposed Lower West Fork project would manage vegetation to reduce fuel loads and crown fire hazard in the wildland urban interface, improve forest health and resilience to disturbances, and maintain or increase shade intolerant species such as ponderosa pine and aspen. Roads will be evaluated for opportunities to reduce sedimentation and restore aquatic passage. Terraced lands will be evaluated for opportunities to restore soils. Site-specific Bitterroot Forest Plan amendments may be proposed for downed wood, snags, soils, or elk habitat effectiveness. Approximately 5,100 acres of the project area are proposed for vegetation treatments.

DATES: Comments concerning the scope of the analysis must be received by January 22, 2008. The draft environmental impact statement is expected in June, 2008, and the final environmental impact statement is expected in December, 2008.

ADDRESSES: Send written, oral, or e-mail comments to Lower West Fork Project; Dave Campbell, District Ranger; West Fork Ranger Station; 6735 West Fork Road; Darby, Montana 59829; phone (406) 821-3269; e-mail comments-northern-bitterroot-west-fork@fs.fed.us. For further information, mail correspondence or contact Mike Jakober, Acting South Zone Interdisciplinary Team Leader; West Fork Ranger Station; 6735 West Fork Road; Darby, Montana 59829; phone (406) 821-3269; e-mail mjakober@fs.fed.us.

FOR FURTHER INFORMATION CONTACT: Mike Jakober, Acting South Zone Interdisciplinary Team Leader; West Fork Ranger Station; 6735 West Fork Road; Darby, Montana 59829; phone (406) 821-3269; e-mail mjakober@fs.fed.us.

SUPPLEMENTARY INFORMATION:

Purpose and Need for Action

The Lower West Fork project is proposed to respond to the goals and objectives of the Bitterroot Community Wildfire Protection Plan and the Bitterroot National Forest Land and Resource Management Plan. The purpose and need objectives of the Lower West Fork project are to: (1) Reduce fuel loads and crown fire risk in lower elevation ponderosa pine/Douglas fir forests; (2) improve forest health and resilience to natural disturbances, particularly the health and resilience of large ponderosa pine trees; (3) maintain or increase shade intolerant species such as ponderosa pine and aspen; and (4) improve soil, watershed, and fisheries conditions.

Proposed Action

The proposed action is designed to accomplish the project objectives with minimal environmental impacts. The types of vegetation treatments that may be implemented on the landscape to meet the objectives include, but are not limited to: Green tree removals such as commercial and non-commercial thinning; removal of individual dead, dying, and diseased trees; creating small openings to regenerate aspen; slashing of small, non-commercial understory trees; hand piling; and prescribed burning. The total proposed vegetation treatment acres are approximately 5,100.

The types of soil, watershed, and fisheries improvement treatments that may be implemented to meet objectives include, but are not limited to: Realignment, storage, and decommissioning of existing roads; culvert removal and replacement for fish passage; installing fish screens on irrigation ditches; spot application of gravel at road stream crossings; and restoration of soils in terraced units. Approximately 10 miles of road are proposed for decommissioning (obliteration), and 19 miles are proposed to be put into long-term storage. Nine culverts are proposed for replacement or removal to improve fish passage.

Possible Alternatives

Preliminary alternatives which have been identified include the proposed action and the no action alternative.

Responsible Official

David T. Bull, Forest Supervisor; Bitterroot National Forest; 1801 N. First; Hamilton, Montana 59840-3114.

Nature of Decision To Be Made

The Responsible Official will determine whether or not to proceed with the proposed project activities.

Scoping Process

Comments will be accepted during the 30 day scoping period as described in this notice of intent. To assist in commenting, a scoping letter providing more detailed information on the project proposal has been prepared and will be mailed out to interested parties. The Lower West Fork project was previously scoped in March, 2007. If you responded at that time and wish to use the same comments, there is no need to comment again. Comments received in spring, 2007 are included in the project file and will be considered in this analysis. If you did not receive a scoping letter in spring, 2007, but wish to receive one now, contact Dave Campbell, West Fork Ranger District, at the mailing address, phone number, or e-mail address previously listed in this notice of intent. At this time, there are no plans to schedule a public meeting. If needed, a meeting will be scheduled between the release of the draft and final environmental impact statements. The time and location of the meeting will be announced at that time.

Preliminary Issues

The scoping that was conducted in March, 2007 disclosed the following preliminary issues: (1) Impacts to air quality; (2) economic impacts; (3) funding realities; (4) utilization of small diameter trees; (5) impacts and costs of obliterating roads; (6) methods and science used in the analysis; and (7) appropriate distances needed to treat fuels around homes.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 409 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statements. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: December 11, 2007.
Amber Lewis,
Acting Forest Supervisor.

[FR Doc. 07-6088 Filed 12-19-07; 8:45 am]

BILLING CODE 3410-11-M